DEPARTMENT OF HEALTH AND HUMAN SERVICES

National Institutes of Health

Proposed Collection; Comment Request; Field Test of the Discovering the Science of Alcohol Curriculum

Summary: In compliance with the requirement of Section 3506(c)(2)(A) of the Paperwork Reduction Act of 1995, regarding the opportunity for public comment on proposed data collection projects, the National institute on Alcohol Abuse and Alcoholism (NIAAA), the National Institutes of Health (NIH) will publish periodic summaries of proposed projects submitted to the Office of Management and Budget (OMB) for review and approval.

Proposed Collection: Title: Field Test of the Discovering the Science of Alcohol Curriculum. Type of Information Collection Request: New. Need and Use of Information Collection: The Discovering the Science of Alcohol curriculum (DSA) was developed with a Phase II SBIR grant to bring accurate, research-based information to high school students in biology and science classrooms. The curriculum includes standards-based content objectives and assessment activities. Curriculum materials include a teacher's guide and website. The field test is necessary to estimate the DSA curriculum's effectiveness in conveying information to students and teachers. Specifically, the field study is designed to enable NIAAA to determine whether teachers and students who complete the DSA curriculum demonstrate significantly greater knowledge of the topics covered in the curriculum than teachers and students who do not use the DSA curriculum. In addition, the study is designed to enable NIAAA to determine whether the students who are exposed to the curriculum components self-report different beliefs, attitudes, and intentions regarding alcohol use than their counterparts who are not exposed to the curriculum at their schools.

Participating in this field test will be an experimental group of 30 high school biology classrooms with a total of approximately 400 to 500 students and a control group of 30 high school biology classrooms with approximately 400 to 500 students. Teachers and students from grades 9, 10, 11, and 12 will comprise both groups. The field test will include two surveys: (1) An online, computerized survey that measures teachers' knowledge of the DSA curriculum components and teacher satisfaction with the DSA curriculum components. (2) For students, an anonymous, online, computerized survey that measures three factors: (a) student knowledge of the DSA components, (b) student attitudes, beliefs, and intentions, and (c) student satisfaction with the DSA curriculum components. Frequency of response: Once per respondent. Affected Public: Individuals. Type of Respondents: Biology/Science teachers and high school students.

The reporting burden is as follows: Estimated Number of Respondents: It is estimated that we will be able to recruit approximately 60 teachers and approximately 1000 students. Estimated Number of Responses per Respondent: One response per respondent. Average Burden Hours per Response: 15 minutes per individual in the control group and 30 minutes per individual in the experimental group, for a total respondent burden of 662.5 hours. Estimated Total Annual Burden Hours Requested: 662.5 hours. Estimated Costs to Respondents: Assuming an hourly rate of $22 for teachers, we estimate the total costs to be $825. There are no Capital Costs to report. There are no Operating or Maintenance costs to report.

Request for Comments: Written comments and suggestions from the public and affected agencies are invited on the following points: (1) Whether the data collection is necessary for the proper performance of the function of the agency, including whether the information will have practical utility; (2) the accuracy of the agency's estimate of the burden of the proposed collection of information, including the validity of the methodology and assumptions; (3) ways to enhance the quality, utility, and clarity of the information to be collected; and (4) ways to minimize the burden of the collection of information on those who are to respond, including the use of appropriate automated, electronic, mechanical, or other technological collection techniques or other forms of information technology.

For further information contact: To request more information on the proposed project or to obtain a copy of the data collection plans and instruments, contact Jason Lazarow, M.Ed., NIH/NIAAA/ORTC/HSEB, 5635 Fishers Lane, Room 3101, MSC 9304, Bethesda, MD 20892-9304, or e-mail your request to: jlazarow@mail.nih.gov. Mr. Lazarow can be contacted by telephone at 301-435-8043.

Comments Due Date: Comments regarding this information collection are best assured of having their full effect if received within 60 days of the date of this publication.

Dated: August 8, 2005.
Stephen Long,
Executive Officer, NIAAA.

[FR Doc. 05-16139 Filed 8-12-05; 8:45 am]

BILLING CODE 4140-01-M